DEPARTMENT OF THE INTERIOR

National Park Service

National Capital Memorial Commission; Notice of Public Meeting

AGENCY: Department of the Interior, National Park Service, National Capital Memorial Commission.

ACTION: Notice of meeting.

SUMMARY: Notice is hereby given in accordance with the Federal Advisory Committee Act that a meeting of the National Capital Memorial Commission (the Commission) will be held at 10 a.m., on Wednesday, July 31, 2002, at the National Building Museum, Room 312, 5th and F Streets, NW., Washington, DC.

The purpose of the meeting will be to discuss currently authorized and proposed memorials in the District of Columbia and environs.

In addition to discussing general matters and conducting routine business, the Commission will review the following:

Action Items

(1) Consideration of a recommendation relative to placement, within Area I as established by the Commemorative Works Act of 1986, of the Memorial to President John Adams and his Legacy (Pub. L. 107-62, November 5, 2001).

(2) Continuation of consideration of the alternative site study for the plaque to be placed at the Lincoln Memorial commemorating the “I Have a Dream” speech of Martin Luther King, Jr.

(3) Legislative Proposals introduced in the 107th Congress to establish memorials in the District of Columbia and its environs.

Other Business

General matters and routine business.

The meeting will be open to the public. Any person may file with the Commission a written statement concerning the matters to be discussed. Persons who wish to file a written statement or testify at the meeting or who want further information concerning the meeting may contact Ms. Nancy Young, Secretary to the Commission, at (202) 619-7097.

DATES: July 31, 2002.

ADDRESSES: Room 312, National Building Museum, 5th and F Streets, NW., Washington, D.C., 20001.

FOR FURTHER INFORMATION CONTACT: Ms. Nancy Young, Secretary to the Commission, 202-619-7097.

SUPPLEMENTARY INFORMATION: The Commission was established by Public Law 99-652, the Commemorative Works Act (40 U.S.C. 1001 et. seq), to advise the Secretary and the Administrator, General Services Administration, (the Administrator) on policy and procedures for establishment of (and proposals to establish) commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC., and its environs.

The members of the Commission are as follows:

Director, National Park Service

Chairman, National Capital Planning Commission

Architect of the Capitol

Chairman, American Battle Monuments Commission

Chairman, Commission of Fine Arts

Mayor of the District of Columbia

Administrator, General Services Administration

Secretary of Defense

Dated: June 26, 2002.
Terry R. Carlstrom,
Regional Director, National Capital Region.

[FR Doc. 02-17604 Filed 7-12-02; 8:45 am]

BILLING CODE 4310-70-M